DEPARTMENT OF DEFENSE

Office of the Secretary

[Docket ID DOD-2011-OS-0102]

Privacy Act of 1974; Systems of Records

AGENCY: Defense Finance and Accounting Service, Department of Defense, (DoD).

ACTION: Notice to Add a System of Records.

SUMMARY: The Defense Finance and Accounting Service (DFAS) is proposing to add a system of records notice to its inventory of record systems subject to the Privacy Act of 1974, (5 U.S.C. 552a), as amended.

DATES: This action will be effective without further notice on October 24, 2011 unless comments are received that would result in a contrary determination.

ADDRESSES: You may submit comments, identified by docket number and title, by any of the following methods:

* Federal Rulemaking Portal: http://www.regulations.gov. Follow the instructions for submitting comments.

* Mail: Federal Docket Management System Office, 4800 Mark Center Drive, 2nd floor, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, FOIA/PA Program Manager, Corporate Communications, Defense Finance and Accounting Service, DFAS-HKC/IN, 8899 E. 56th Avenue, Indianapolis, IN 46249-0150, or by phone at (317) 212-4591.

SUPPLEMENTARY INFORMATION: The Defense Finance and Accounting Service notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on September 14, 2011, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 2996, 61 FR 6427).

Dated: September 19, 2011.
Aaron Siegel,
Alternate OSD Federal Register Liaison Officer, Department of Defense.

T-4500b

System name:

Transportation Support System (TSS).

System location:

Defense Information Systems Agency, Defense Enterprise Computing Center, Mechanicsburg, Building 308, North End, 5450 Carlisle Pike, Mechanicsburg, PA 17050.

Defense Finance & Accounting Service (DFAS), Cleveland, Systems Management Directorate, Transportation Support System, 1290 E. 9th Street, Cleveland, OH 44199.

Categories of individuals covered by the system:

United States Navy and Navy reserve members whose household goods claims are processed by the Defense Finance and Accounting Service.

Categories of records in the system:

Individual's name, Social Security Number (SSN), grade, rank, address and telephone numbers.

Authority for maintenance of the system:

5 U.S.C. 301, Departmental Regulations; Department of Defense Financial Management Regulation (DoDFMR), 7000.14-R, Vol. 5, Chapter 20; 31 U.S.C. Sections 3511, 3512, and 3513, Accounting Requirements, Systems, and Information; and E.O. 9397 (SSN), as amended.

Purpose(s):

This system provides a front-end invoice input capability to the One Pay entitlement system for Navy Bill of Lading payments. Bills of Lading are multiuse documents that are essential to conduct day to day Government operations when transportation of supplies, materials, freight, and personal property is required. This system also serves as a transportation management information system for Navy transportation bills.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” published at the beginning of the DFAS compilation of systems of records notices apply to this system.

Policies and practices for storing, retrieving, accessing, retaining, and disposing of records in the system:

Storage:

Paper records and electronic storage media.

Retrievability:

Social Security Number (SSN) and name.

Safeguards:

Records are stored in an office building protected by guards, controlled screening, use of visitor registers, electronic access, and/or locks. Access to records is limited to authorized individuals who are properly screened and cleared on a need-to-know basis in the performance of their duties. Passwords and digital signatures are used to control access to the system data, and procedures are in place to deter and detect browsing and unauthorized access. Physical and electronic access are limited to persons responsible for servicing and authorized to use the system.

Retention and disposal:

Records are temporary in nature, cut off at the end of the fiscal year and destroyed 6 years and 3 months after cutoff. Records are destroyed by degaussing, burning, or shredding.

System manager(s) and address:

Defense Finance and Accounting Service, System Management Directorate, Transportation Support System, 1290 E. 9th Street, Cleveland, OH 44199.

Notification procedure:

Individuals seeking to determine whether information about themselves is contained in this system of records should address written inquiries to the FOIA/PA Program Manager, Corporate Communications, Defense Finance and Accounting Service, DFAS-HKC/IN, 8899 E. 56th Avenue, Indianapolis, IN 46249-0150.

Individuals should furnish full name, Social Security Number (SSN), current address and telephone number, and provide a reasonable description of the record they are seeking.

Record access procedures:

Individuals seeking access to information about themselves contained in this system of records should address written inquires to FOIA/PA Program Manager, Corporate Communications, Defense Finance and Accounting Service, DFAS-HKC/IN, 8899 E. 56th Avenue, Indianapolis, IN 46249-0150.

Individuals should furnish full name, Social Security Number (SSN), current address and telephone number, and provide a reasonable description of the record they are seeking.

Contesting record procedures:

The DFAS rules for accessing records, for contesting contents and appealing initial agency determinations are published in DFAS Regulation 5400.11-R; 32 CFR part 324; or may be obtained from FOIA/PA Program Manager, Corporate Communications, Defense Finance and Accounting Service, DFAS-HKC/IN, 8899 E. 56th Avenue, Indianapolis, IN 46249-0150.

Record source categories:

From the individual concerned DoD Components.

Exemptions claimed for the system:

None.

[FR Doc. 2011-24342 Filed 9-21-11; 8:45 am]

BILLING CODE 5001-06-P